DEPARTMENT OF TRANSPORTATION

Federal Highway Administration

Environmental Impact Statement; Pike County, KY and Mingo County, WV

AGENCY: Federal Highway Administration (FHWA), DOT.

ACTION: Notice of intent.

SUMMARY: The FHWA is issuing this notice to advise the public that an environmental impact statement will be prepared for a proposed highway project in Pike County, Kentucky and Mingo County, West Virginia.

FOR FURTHER INFORMATION CONTACT: Jesse Story, Division Administrator, Federal Highway Administration, 330 West Broadway, Frankfort, Kentucky, 40601, (502) 223-6721, e-mail: jesse.story@fhwa.dot.gov; or John Bowlin, Project Manager, Kentucky Transportation Cabinet, District 12 Pikeville, P.O. Box 2468, Pikeville, Kentucky, 41502, (606) 785-9466, e-mail: jbowlin@mail.kytc.state.ky.us.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gov/fedreg and the Government Printing Office's web page at http://www.access.gpo.gov.nara.

Background

The FHWA, in cooperation with the Kentucky Transportation Cabinet (KYTC) and the West Virginia Division of Highways (WVDOH), will prepare an environmental impact statement (EIS) on a proposed highway project to construct a segment of Interstate Highway I-66 (Transamerica Transportation Corridor) between western Pike County, Kentucky and eastern Mingo County, West Virginia. The proposed project would involve the construction of a 4-line, controlled access highway on new location between US 23/119 southwest of Pikeville, Kentucky to the proposed Interstate Highway I-73 (King Coal Highway) in Mingo County, West Virginia. The proposed project is approximately 30 miles (48 kilometers) in length. This Interstate highway construction project is considered necessary to improve and promote economic development opportunities in a severely depressed area of Appalachia, improve regional accessibility and east-west National Highway System connectivity, reduce travel time and distance, improve highway safety for the traveling public, increase tourism, and provide for National defense objectives throughout the region.

Alternatives under consideration include: (1) Taking no action; (2) using alternate travel modes; and (3) constructing a 4-lane, controlled access highway on new location. Incorporated into and studied with the various build alternatives will be design variations of grade, typical sections, and alignments.

Letters describing the proposed action and soliciting comments will be sent to appropriate Federal, State, and local agencies, and to private organizations and citizens who have expressed interest in this proposal during the previous project planning phase. Project scoping meetings will be held in the project area in the Spring of 2000 and a series of public meetings and public hearings will be held in conjunction with preliminary design and EIS phase activities. Public notice of the time and place of all public meetings and hearings will be given in accordance with FHWA, KYTC, and WVDOH policies and regulations. The draft EIS will be available for public and agency review and comment.

To ensure that the full range of issues related to this proposed action are addressed and all significant issues identified, comments and suggestions are invited from all interested parties. Comments or questions concerning this proposed action and the EIS should be directed to the FHWA at the address provided under the caption FOR FURTHER INFORMATION CONTACT.

(Catalog of Federal Domestic Assistance Number 20.205, Highway Planning and Construction. The regulations implementing Executive Order 12372 regarding intergovernmental consultation on Federal programs and activities apply to this program.) (23 U.S.C. 315; 49 CFR 1.48)

Issued on: March 9, 2000.
Jesse A. Story,
Kentucky Division Administrator, Frankfort.

[FR Doc. 00-6334 Filed 3-14-00; 8:45 am]

BILLING CODE 4910-22-M